DEPARTMENT OF THE INTERIOR

National Park Service

Notice of Intent to Repatriate a Cultural Item in the Possession of the Peabody Museum of Archaeology and Ethnology, Harvard University, Cambridge, MA

AGENCY: National Park Service.

ACTION: Notice.

Notice is hereby given under the Native American Graves Protection and Repatriation Act, 43 CFR 10.10 (a)(3), of the intent to repatriate a cultural item in the possession of the Peabody Museum of Archaeology and Ethnology, Harvard University, Cambridge, MA that meets the definition of “unassociated funerary object” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The one cultural item is a hide scraper made of an elk antler.

Between 1878-1893, this cultural item was collected in Douglas County or Sarpy County, NE by Mr. William R. Morris. In 1930, Mrs. William Morris sold the cultural item to Mr. William Claflin, Jr. In 1985, this cultural item was donated to the museum by Mr. Claflin.

Museum records indicate that this object was removed from an Omaha grave south of Omaha in Douglas County or Sarpy County, NE. Based on the specific cultural affiliation described by the collector, this burial was most likely an Omaha burial from the historic period.

Based on the above-mentioned information, officials of the Peabody Museum of Archaeology and Ethnology have determined that, pursuant to 43 CFR 10.2 (d)(2)(ii), this one cultural item is reasonably believed to have been placed with or near individual human remains at the time of death or later as part of the death rite or ceremony and are believed, by a preponderance of the evidence, to have been removed from a specific burial site of an Native American individual. Officials of the Peabody Museum of Archaeology and Ethnology also have determined that, pursuant to 43 CFR 10.2 (e), there is a relationship of shared group identity that can be reasonably traced between this item and the Omaha Tribe of Nebraska. This notice has been sent to officials of the Omaha Tribe of Nebraska. Representatives of any other Indian tribe that believes itself to be culturally affiliated with this unassociated funerary object should contact Barbara Isaac, Repatriation Coordinator, Peabody Museum of Archaeology and Ethnology, Harvard University, 11 Divinity Avenue, Cambridge, MA 02138, telephone (617) 495-2254, before November 24, 2000. Repatriation of this unassociated funerary object to the Omaha Tribe of Nebraska may begin after that date if no additional claimants come forward.

Dated: October 16, 2000.
John Robbins,
Assistant Director, Cultural Resources Stewardship and Partnerships.

[FR Doc. 00-27370 Filed 10-24-00; 8:45 am]

BILLING CODE 4310-70-F